DEPARTMENT OF ENERGY

Agency Information Collection Under Review by the Office of Management and Budget

AGENCY: Department of Energy.

ACTION: Submission for OMB review; comment request.

SUMMARY: The Department of Energy (DOE), pursuant to section 3506(c)(1)(A) of the Paperwork Reduction Act of 1995, intends to extend for three years, an information collection package with the Office of Management and Budget (OMB).

The package covers collections of information concerning the public and the management and administration of DOE's government-owned contractor-operated (GOCO) facilities and offsite contractors. The information is used by Departmental management to exercise management oversight with respect to the implementation of applicable statutory and contractual requirements and obligations. The collection of this information is critical to ensure the Government has sufficient information to judge the degree to which contractors meet contractual requirements; that public funds are being spent in the manner intended, and that fraud, waste, and abuse are immediately detected and eliminated.

DATES: Written comments and recommendations for the proposed collections of information must be submitted to the OMB Desk Officer, within February 25, 2002. If you anticipate that you will be submitting comments, but find it difficult to do so within the period of time allowed by this Notice, please advise the OMB Desk Officer of your intention to make a submission as soon as possible. The Desk Officer may be telephoned at (202) 395-3087. In addition, please notify the DOE contact listed in this Notice.

ADDRESSES: Address comments to the DOE Desk Officer, Office of Information and Regulatory Affairs, Office of Management and Budget, New Executive Office Building, Room 10102, 725 17th Street, NW., Washington, DC 20503. (Comments should also be addressed to Susan L. Frey, Director, Records Management Division, Office of the Deputy Associate CIO for Architecture Standards & Policy, Office of the Chief Information Officer, U.S. Department of Energy, Germantown, MD 20874-1290.)

FOR FURTHER INFORMATION CONTACT: Requests for copies of the Department's Paperwork Reduction Act Submission should be directed to James Renjilian, Office of the General Counsel (GC-80), U.S. Department of Energy, Washington, DC 20585, (202) 586-1522. Any other information should be directed to Ms. Susan L. Frey, (see above address), by telephone at (301) 903-3666 or e-mail at Susan.Frey@hq.doe.gov.

SUPPLEMENTARY INFORMATION: This package contains: (1) Current OMB No. 1910-0800; (2) Title: Legal Collections Packages; (3) Summary: Request for a three-year extension of the existing clearance; (4) Purpose: This information is required by DOE to ensure that programmatic and administrative management requirements and resources are managed efficiently and effectively and to exercise management oversight over DOE M&O contractors of the Department's GOCO facilities, and off-site contractors. (5) Type of Respondents: DOE management and operating contractors and off-site contractors; (6) Estimated Number of Responses: 1,894. Estimated number of Burden Hours: 14,100 .

Statutory Authority: Section 3506(c)(1)(A) of the Paperwork Reduction Act of 1995 (Pub. L. 104-13).

Issued in Washington, DC, on January 15, 2002.
Susan L. Frey,
Director, Records Management Division, Office of Deputy Associate Architecture Standards & Policy, Office of the Chief Information Officer.

[FR Doc. 02-1742 Filed 1-23-02; 8:45 am]

BILLING CODE 6450-01-P